DEPARTMENT OF TRANSPORTATION

Federal Highway Administration

Environmental Impact Statement; Chatham County, NC

AGENCY: Federal Highway Administration (FHWA), Department of Transporation (DOT).

ACTION: Notice of intent.

SUMMARY: The FHWA is issuing this notice to advise the public that an environmental impact statement will be prepared for a proposed highway project in Chatham County, North Carolina.

FOR FURTHER INFORMATION CONTACT: Ms. Emily Lawton, Operations Engineer, Federal Highway Administration, 310 New Bern Avenue, Suite 410, Raleigh, North Carolina 27601, Telephone: (919) 856-4350.

SUPPLEMENTARY INFORMATION: The FHWA, in cooperation with the North Carolina Department of Transportation, will prepare an environmental impact statement (EIS) on a proposal to construct the Pittsboro Bypass. The Pittsboro North-South Bypass is a proposed multi-lane, controlled access freeway on new location that begins at US 15-501 south of Pittsboro and ends at the US 64 Bypass. The proposed improvements are expected to be implemented in multiple stages. The project would begin with the construction of a two-lane shoulder section for the entire project length, an interchange at US 64 Bypass, acquisition of right-of-way to accommodate an ultimate four-lane divided facility with full control of access, and acquisition of right-of-way for three future interchanges. The final stages of the project would include the remaining construction to provide a four-lane, median-divided section with additional interchanges at locations to be determined.

Construction of the proposed freeway is considered necessary to accommodate the existing and projected traffic demand through the Town of Pittsboro, in Chatham County. The preliminary study area encompasses the entire Town of Pittsboro, as well as outlying rural areas. The study area is bounded by the Haw River to the east, Rocky River and Deep River to the south, Harlands Creek to the west, and Russell Chapel Road (SR 1520) to the north. Study alternatives will be chosen that best suit the Purpose and Need for the Project. Potential alternatives to be considered include (1) taking no action; (2) using alternative travel modes; (3) improving the existing facilities through the Town of Pittsboro (US 15-501 and US 64); and, (4) construction of a multi-lane, controlled access facility on new location. Design variations of alignment and grade will be incorporated into the study of each of the build alternatives.

Letters describing the proposed action and soliciting comments have been sent to appropriate Federal, State, and local agencies, and to private organizations and citizens who have previously expressed or are known to have an interest in this proposal. Citizen informational workshops will be held in the project area throughout the study process. In addition, a public hearing will be held. Public notice will be given of the time and place of the workshops and hearing. The draft EIS will be available for public and agency review and comment prior to the public hearing.

To ensure that the full range of issues related to this proposed action are addressed and all significant issues are identified, comments and suggestions are invited from all interested parties. Comments or questions concerning this proposed action and the EIS should be directed to the FHWA at the address provide above.

(Catalog of Federal Domestic Assistance Program Number 20.205, Highway Planning and Construction. The regulations implementing Executive Order 12372 regarding intergovernmental consultation on Federal programs and activities apply to this program.)

Emily Lawton,
Operations Engineer, Raleigh, NC.

[FR Doc. 01-23026 Filed 9-12-01; 8:45 am]

BILLING CODE 4910-22-M